DEPARTMENT OF AGRICULTURE

Farm Service Agency

Information Collection; Customer Data Worksheet Request for Service Center Information Management System (SCIMS) Record Changes

AGENCY: Farm Service Agency, USDA.

ACTION: Notice and request for comments.

SUMMARY: In accordance with the Paperwork Reduction Act of 1995, the Farm Service Agency (FSA) is requesting comments from all interested individuals and organizations on an extension of a currently approved information collection to support Customer Data Worksheet Request for Service Center Information Management System (SCIMS) that contains the producer's personal information. Specifically, FSA is requesting comment on the form AD-2047, “Customer Data Worksheet Request for SCIMS Record Change.” FSA is using the collected information in support of documenting critical producer data changes (customer name, current mailing address and tax identification number) in SCIMS made at the request of the producer to correct or update their information. The collection of critical producer data are being used to update existing producer record data and document when and who initiates and changes the record in SCIMS.

DATES: We will consider comments that we receive by October 4, 2010.

ADDRESSES: We invite you to submit comments on this notice. In your comments, include date, volume, and page number of this issue of the Federal Register. You may submit comments by any of the following methods:

• Mail: Mike Sienkiewicz, Agricultural Program Specialist, USDA, FSA, STOP 0517, 1400 Independence Avenue, SW., Washington, DC 20250-0517.

• E-mail: mike.sienkiewicz@wdc.usda.gov.

• Fax: 202-720-0051.

You may also send comments to the Desk Officer for Agriculture, Office of Information and Regulatory Affairs, Office of Management and Budget, Washington, DC 20503.

SUPPLEMENTARY INFORMATION:

Title: Customer Data Worksheet Request for SCIMS Record Changes.

OMB Control Number: 0560-0265.

Type of Request: Extension of currently approved information collection.

Abstract: The information collection is necessary to effectively monitor critical producer data changes made in the SCIMS at the request of the producer to correct or update their information. The form of AD-2047, “Customer Data Worksheet Request for SCIMS Record Change”, is used to collect the information from the producers to make changes to the information in SCIMS. The necessity to monitor critical producer data changes in the SCIMS database is a direct result of the OMB Circular A-123 Remediation/Corrective Action Plan for County Office Operations which requires effective internal controls to be in place for Federal programs. The FSA team was established and reviewed and documented key controls related to all material producer accounts. FSA also included the analysis on a review of the SCIMS.

Estimated Average Time to Respond: Public reporting burden for collection of this information is estimated to average .17 hours per response. The average travel time, which is included in the total annual burden, is estimated to be 1 hour per respondent.

Type of Respondents: FSA, NRCS, and RD customers currently residing in SCIMS.

Estimated Number of Respondents: 45,000.

Estimated Number of Responses per Respondent: 1.15.

Estimated Annual Number of Responses: 45,000.

Estimated Total Annual Burden Hours: 8,798.

We are requesting comments on all aspects of this information collection and to help us to:

(1) Evaluate whether the collection of information is necessary for the proper performance of the functions of the agency, including whether the information will have practical utility;

(2) Evaluate the accuracy of the agency's estimate of burden, including the validity of the methodology and assumptions used;

(3) Enhance the quality, utility and clarity of the information to be collected; and

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed at Washington, DC, on July 27, 2010.
Jonathan W. Coppess,
Administrator, Farm Service Agency.

[FR Doc. 2010-19047 Filed 8-2-10; 8:45 am]

BILLING CODE 3410-05-P